ENVIRONMENTAL PROTECTION AGENCY

40 CFR Part 52

[EPA-R01-OAR-2015-0238; FRL-9951-94-Region 1]

Air Plan Approval; Connecticut; NOX Emission Trading Orders as Single Source SIP Revisions

AGENCY: Environmental Protection Agency (EPA).

ACTION: Final rule.

SUMMARY: The Environmental Protection Agency (EPA) is approving a State Implementation Plan (SIP) revision submitted by the State of Connecticut. This revision continues to allow facilities to create and/or use emission credits using NOX Emission Trading and Agreement Orders (TAOs) to comply with the NOX emission limits required by Regulations of Connecticut State Agencies (RCSA) section 22a-174-22 (Control of Nitrogen Oxides). The intended effect of this action is to approve the individual trading orders to allow facilities to determine the most cost-effective way to comply with the state regulation. This action is being taken in accordance with the Clean Air Act (CAA).

DATES: This final rule is effective on October 11, 2016.

ADDRESSES: The EPA has established a docket for this action under Docket ID No. EPA-R01-OAR-2015-0238. All documents in the docket are listed on the http://www.regulations.gov Web site. Although listed in the index, some information is not publicly available, e.g., CBI or other information whose disclosure is restricted by statute. Certain other material, such as copyrighted material, is not placed on the Internet and will be publicly available only in hard copy form. Publicly available docket materials are available electronically through http://www.regulations.gov.

FOR FURTHER INFORMATION CONTACT: Donald Dahl, Air Permits, Toxics, and Indoor Programs Unit, Office of Ecosystem Protection, U.S. Environmental Protection Agency, EPA New England Regional Office, 5 Post Office Square, Suite 100, (OEP05-2), Boston, MA 02109-3912, phone number (617) 918-1657, fax number (617) 918-0657, email Dahl.Donald@epa.gov.

SUPPLEMENTARY INFORMATION: Throughout this document whenever “we,” “us,” or “our” is used, we mean EPA.

Table of Contents

I. Summary of SIP Revision

II. Final Action

III. Statutory and Executive Order Reviews

I. Summary of SIP Revision

On November 15, 2011, the Connecticut Department of Energy and Environmental Protection (CT DEEP) submitted a formal revision to its State Implementation Plan (SIP). This SIP revision consists of eighty-nine source-specific Trading Agreement and Orders (TAOs) that allow twenty-four individual stationary sources of nitrogen oxide (NOX) emissions to create and/or trade NOX emission credits in order to ensure more effective compliance with EPA SIP-approved state regulations for reducing NOX emissions. We previously approved source-specific TAOs of the same kind issued by CT DEEP under this program for these same sources on September 28, 1999 (64 FR 52233), March 23, 2001 (66 FR 16135), and September 9, 2013 (78 FR 54962). The November 15, 2011 SIP submittal also includes Consent Order 8029A issued to Hamilton Sundstrand which addresses Volatile Organic Compound (VOC) emissions.

On June 15, 2016 (81 FR 38999) EPA published a notice of proposed rulemaking (NPR) for the State of Connecticut's 2011 SIP revision submittal, proposing approval of the TAOs, except for Consent Order 8029A. The NPR also proposed approval of the revised TAO 8110A issued to Yale University. This TAO was originally submitted as part of a July 1, 2004 SIP revision from Connecticut, and was modified by CT DEEP on May 29, 2015.

The rationale supporting EPA's proposed rulemaking action is explained in the published NPR. The NPR is available in the docket for this rulemaking at www.regulations.gov, Docket ID Number EPA-R01-OAR-2015-0238. EPA did not receive any public comments on the NPR.

II. Final Action

The EPA is approving into the Connecticut SIP the 89 TAOs contained in the State of Connecticut's 2011 SIP revision request as well as the revised TAO 8110A for Yale University.

III. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804, however, exempts from section 801 the following types of rules: Rules of particular applicability; rules relating to agency management or personnel; and Rules of agency organization, procedure, or practice that do not substantially affect the rights or obligations of non-agency parties. 5 U.S.C. 804(3). Because this is a rule of particular applicability, EPA is not required to submit a rule report regarding this action under section 801.

Under section 307(b)(1) of the Clean Air Act, petitions for judicial review of this action must be filed in the United States Court of Appeals for the appropriate circuit by November 8, 2016. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen dioxide, Reporting and recordkeeping requirements.

Dated: August 17, 2016.
H. Curtis Spalding,
Regional Administrator, EPA New England.

Part 52 of chapter I, title 40 of the Code of Federal Regulations is amended as follows:

PART 52—APPROVAL AND PROMULGATION OF IMPLEMENTATION PLANS

1. The authority citation for part 52 continues to read as follows:

Authority: 42 U.S.C. 7401 et seq.

Subpart H—Connecticut

2. Section 52.377 is amended by adding paragraph (m)(2) to read as follows:

§ 52.377 Control Strategy: Ozone.

* * * * *

(m) * * *

(2) Revisions to the State Implementation Plan submitted by the Connecticut Department of Energy and Environmental Protection on November 15, 2011 and July 1, 2004. The revisions consist of 90 single source emission trading orders necessary for satisfying Reasonable Available Control Technology requirements for nitrogen oxides during specific time periods.

(i) Trading Agreement and Order No. 8093C, Modification No. 2 issued to Pfizer in Groton.

(ii) Trading Agreement and Order No. 8093C, Modification No. 3 issued to Pfizer in Groton.

(iii) Trading Agreement and Order No. 8136A, Modification No. 1 issued to Pfizer in Groton.

(iv) Trading Agreement and Order No. 8136A, Modification No. 2 issued to Pfizer in Groton.

(v) Trading Agreement and Order No. 8296 issued to Pfizer in Groton.

(vi) Trading Agreement and Order No. 8109, Modification No. 1 issued to Hamilton Sundstrand Corporation in Windsor Locks.

(vii) Trading Agreement and Order No. 8109, Modification No. 2 issued to Hamilton Sundstrand Corporation in Windsor Locks.

(viii) Trading Agreement and Order No. 8109, Modification No. 3 issued to Hamilton Sundstrand Corporation in Windsor Locks.

(ix) Trading Agreement and Order No. 8291 issued to Hamilton Sundstrand Corporation in Windsor Locks.

(x) Trading Agreement and Order No. 8291, Modification No. 1 issued to Hamilton Sundstrand Corporation in Windsor Locks.

(xi) Trading Agreement and Order No. 8114A, Modification No. 1 issued to Cytec Industries, Inc. in Wallingford.

(xii) Trading Agreement and Order No. 8114A, Modification No. 2 issued to Cytec Industries, Inc. in Wallingford.

(xiii) Trading Agreement and Order No. 8115B, Modification No. 1 issued to University of Connecticut in Storrs.

(xiv) Trading Agreement and Order No. 8115B, Modification No. 2 issued to University of Connecticut in Storrs.

(xv) Trading Agreement and Order No. 8115B, Modification No. 3 issued to University of Connecticut in Storrs.

(xvi) Trading Agreement and Order No. 8116B, Modification No. 1 issued to Connecticut Resources Recovery Authority in Hartford.

(xvii) Trading Agreement and Order No. 8116B, Modification No. 2 issued to Connecticut Resources Recovery Authority in Hartford.

(xviii) Trading Agreement and Order No. 8302 issued to Connecticut Resources Recovery Authority in Hartford.

(xix) Trading Agreement and Order No. 8119A, Modification No. 2 issued to City of Norwich, Department of Public Utilities in Norwich.

(xx) Trading Agreement and Order No. 8119A, Modification No. 3 issued to City of Norwich, Department of Public Utilities in Norwich.

(xxi) Trading Agreement and Order No. 8304 issued to City of Norwich, Department of Public Utilities in Norwich.

(xxii) Trading Agreement and Order No. 8120A, Modification No. 1 issued to Sikorsky Aircraft Corporation in Stratford.

(xxiii) Trading Agreement and Order No. 8120A, Modification No. 2 issued to Sikorsky Aircraft Corporation in Stratford.

(xxiv) Trading Agreement and Order No. 8293 issued to Sikorsky Aircraft Corporation in Stratford.

(xxv) Trading Agreement and Order No. 8293, Modification No. 1 issued to Sikorsky Aircraft Corporation in Stratford.

(xxvi) Trading Agreement and Order No. 8123A, Modification No. 1 issued to Algonquin Gas Transmission Company in Cromwell.

(xxvii) Trading Agreement and Order No. 8123A, Modification No. 2 issued to Algonquin Gas Transmission Company in Cromwell.

(xxviii) Trading Agreement and Order No. 8134A, Modification No. 1 issued to United Technologies Corporation in East Hartford.

(xxix) Trading Agreement and Order No. 8134A, Modification No. 2 issued to United Technologies Corporation in East Hartford.

(xxx) Trading Agreement and Order No. 8289 issued to United Technologies Corporation in East Hartford.

(xxxi) Trading Agreement and Order No. 8154A, Modification No. 1 issued to Combustion Engineering, Inc. in Windsor.

(xxxii) Trading Agreement and Order No. 8154A, Modification No. 2 issued to Combustion Engineering, Inc. in Windsor.

(xxxiii) Trading Agreement and Order No. 8180A, Modification No. 2 issued to Connecticut Jet Power LLC in Branford, Greenwich, and Torrington.

(xxxiv) Trading Agreement and Order No. 8180A, Modification No. 3 issued to Connecticut Jet Power LLC in Branford, Greenwich, and Torrington.

(xxxv) Trading Agreement and Order No. 8181A, Modification No. 2 issued to Devon Power LLC in Milford.

(xxxvi) Trading Agreement and Order No. 8181A, Modification No. 3 issued to Devon Power LLC in Milford.

(xxxvii) Trading Agreement and Order No. 8219A, Modification No. 2 issued to Devon Power LLC in Milford.

(xxxviii) Trading Agreement and Order No. 8251A, Modification No. 2 issued to Devon Power LLC in Milford.

(xxxix) Trading Agreement and Order No. 8251A, Modification No. 3 issued to Devon Power LLC in Milford.

(xl) Trading Agreement and Order No. 8182A, Modification No. 2 issued to Middleton Power LLC in Middleton.

(xli) Trading Agreement and Order No. 8182A, Modification No. 3 issued to Middleton Power LLC in Middleton.

(xlii) Trading Agreement and Order No. 8213A, Modification No. 2 issued to Middleton Power LLC in Middleton.

(xliii) Trading Agreement and Order No. 8213A, Modification No. 3 issued to Middleton Power LLC in Middleton.

(xliv) Trading Agreement and Order No. 8214A, Modification No. 2 issued to Middleton Power LLC in Middleton.

(xlv) Trading Agreement and Order No. 8214A, Modification No. 3 issued to Middleton Power LLC in Middleton.

(xlvi) Trading Agreement and Order No. 8215A, Modification No. 2 issued to Middleton Power LLC in Middleton.

(xlvii) Trading Agreement and Order No. 8215A, Modification No. 3 issued to Middleton Power LLC in Middleton.

(xlviii) Trading Agreement and Order No. 8183A, Modification No. 2 issued to Montville Power LLC in Montville.

(xlix) Trading Agreement and Order No. 8183A, Modification No. 3 issued to Montville Power LLC in Montville.

(l) Trading Agreement and Order No. 8216A, Modification No. 2 issued to Montville Power LLC in Montville.

(li) Trading Agreement and Order No. 8216A, Modification No. 3 issued to Montville Power LLC in Montville.

(lii) Trading Agreement and Order No. 8217A, Modification No. 2 issued to Montville Power LLC in Montville.

(liii) Trading Agreement and Order No. 8217A, Modification No. 3 issued to Montville Power LLC in Montville.

(liv) Trading Agreement and Order No. 8184A, Modification No. 2 issued to Norwalk Power LLC in Norwalk.

(lv) Trading Agreement and Order No. 8184A, Modification No. 3 issued to Norwalk Power LLC in Norwalk.

(lvi) Trading Agreement and Order No. 8218A, Modification No. 2 issued to Norwalk Power LLC in Norwalk.

(lvii) Trading Agreement and Order No. 8218A, Modification No. 3 issued to Norwalk Power LLC in Norwalk.

(lviii) Trading Agreement and Order No. 8221A, Modification No. 1 issued to Dominion Nuclear Connecticut, Inc. in Waterford.

(lix) Trading Agreement and Order No. 8221A, Modification No. 2 issued to Dominion Nuclear Connecticut, Inc. in Waterford.

(lx) Trading Agreement and Order No. 8222A, Modification No. 1 issued to Dominion Nuclear Connecticut, Inc. in Waterford.

(lxi) Trading Agreement and Order No. 8222A, Modification No. 2 issued to Dominion Nuclear Connecticut, Inc. in Waterford.

(lxii) Trading Agreement and Order No. 8288 issued to Dominion Nuclear Connecticut, Inc. in Waterford.

(lxiii) Trading Agreement and Order No. 8288, Modification No. 1 issued to Dominion Nuclear Connecticut, Inc. in Waterford.

(lxiv) Trading Agreement and Order No. 8240, Modification No. 2 issued to PSEG Power Connecticut LLC in New Haven.

(lxv) Trading Agreement and Order No. 8240, Modification No. 3 issued to PSEG Power Connecticut LLC in New Haven.

(lxvi) Trading Agreement and Order No. 8243, Modification No. 1 issued to PSEG Power Connecticut LLC in New Haven.

(lxvii) Trading Agreement and Order No. 8243, Modification No. 2 issued to PSEG Power Connecticut LLC in New Haven.

(lxviii) Trading Agreement and Order No. 8241, Modification No. 2 issued to PSEG Power Connecticut LLC in Bridgeport.

(lxix) Trading Agreement and Order No. 8241, Modification No. 3 issued to PSEG Power Connecticut LLC in Bridgeport.

(lxx) Trading Agreement and Order No. 8244, Modification No. 2 issued to PSEG Power Connecticut LLC in Bridgeport.

(lxxi) Trading Agreement and Order No. 8244, Modification No. 3 issued to PSEG Power Connecticut LLC in Bridgeport.

(lxxii) Trading Agreement and Order No. 8253, Modification No. 2 issued to PSEG Power Connecticut LLC in Bridgeport.

(lxxiii) Trading Agreement and Order No. 8253, Modification No. 3 issued to PSEG Power Connecticut LLC in Bridgeport.

(lxxiv) Trading Agreement and Order No. 8301 issued to PSEG Power LLC, PSEG Fossil LLC, and PSEG Power Connecticut LLC in Bridgeport.

(lxxv) Trading Agreement and Order No. 8305 issued to PSEG Power LLC, PSEG Fossil LLC, and PSEG Power Connecticut LLC in New Haven and Bridgeport.

(lxxvi) Trading Agreement and Order No. 8249, Modification No. 2 issued to Capitol District Energy Center Cogeneration Associates in Hartford.

(lxxvii) Trading Agreement and Order No. 8249, Modification No. 3 issued to Capitol District Energy Center Cogeneration Associates in Hartford.

(lxxviii) Trading Agreement and Order No. 8298 issued to Capitol District Energy Center Cogeneration Associates in Hartford.

(lxxix) Trading Agreement and Order No. 8261, Modification No. 1 issued to Algonquin Power Windsor Locks LLC in Windsor Locks.

(lxxx) Trading Agreement and Order No. 8261, Modification No. 2 issued to Algonquin Power Windsor Locks LLC in Windsor Locks.

(lxxxi) Trading Agreement and Order No. 8299 issued to Algonquin Power Windsor Locks LLC in Windsor Locks.

(lxxxii) Trading Agreement and Order No. 8269 issued to Cascades Boxboard Group Connecticut LLC in Versailles.

(lxxxiii) Trading Agreement and Order No. 8269, Modification No. 1 issued to Cascades Boxboard Group Connecticut LLC in Versailles.

(lxxxiv) Trading Agreement and Order No. 8297 issued to Cascades Boxboard Group Connecticut LLC in Versailles.

(lxxxv) Trading Agreement and Order No. 8272 issued to NE Hydro Generating Company in Preston.

(lxxxvi) Trading Agreement and Order No. 8279 issued to First Light Hydro Generating Company in Preston.

(lxxxvii) Trading Agreement and Order No. 8303 issued to First Light Hydro Generating Company in Preston.

(lxxxviii) Trading Agreement and Order No. 8300 issued to NRG Energy, Inc., Middletown Power LLC, NRG Middletown Operations Inc., Montville Power LLC, NRG Montville Operations Inc., Norwalk Power LLC, NRG Norwalk Harbor Operations Inc., and Connecticut Jet Power LLC in Branford, Greenwich, Torrington, Middletown, Norwalk, Milford, and Montville.

(lxxxix) Trading Agreement and Order No. 8306 issued to NRG Energy, Inc., Middletown Power LLC, NRG Middletown Operations Inc., Montville Power LLC, NRG Montville Operations Inc., Norwalk Power LLC, and NRG Norwalk Harbor Operations Inc. in Middletown, Montville, and Norwalk.

(xc) Trading Agreement and Order No. 8110A issued to Yale University in New Haven.

* * * * *

[FR Doc. 2016-21453 Filed 9-8-16; 8:45 am]

BILLING CODE 6560-50-P